DEPARTMENT OF THE TREASURY

Agency Information Collection Activities; Submission for OMB Review; Comment Request; Split-Interest Trust Information Return

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before May 29, 2020 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Internal Revenue Services (IRS)

Title: Split-Interest Trust Information Return.

OMB Control Number: 1545-0196.

Type of Review: Revision of a currently approved collection.

Description: Form 5227 is used to report the financial activities of a split-interest trust described in Internal Revenue Code section 4947(a)(2), and to determine whether the trust is treated as a private foundation and is subject to the excise taxes under Chapter 42 of the Code.

Form: 5227.

Affected Public: Business or other for-profits.

Estimated Number of Respondents: 199,900.

Frequency of Response: Annually.

Estimated Total Number of Annual Responses: 199,900.

Estimated Time per Response: 45 hours, 24 minutes.

Estimated Total Annual Burden Hours: 9,076,744 hours.

(Authority: 44 U.S.C. 3501 et seq.)

Dated: April 23, 2020.
Spencer W. Clark,
Treasury PRA Clearance Officer.

[FR Doc. 2020-09067 Filed 4-28-20; 8:45 am]

BILLING CODE 4830-01-P